DEPARTMENT OF THE INTERIOR

Bureau of Land Management

[BLM_HQ_FRN_MO4500177510]

Second Call for Nominations for the National Wild Horse and Burro Advisory Board

AGENCY: Bureau of Land Management, Interior.

ACTION: Notice of second call for nominations.

SUMMARY: The purpose of this notice is to solicit public nominations for one position on the Wild Horse and Burro Advisory Board (Board) that expired on January 11, 2024. The Board provides advice concerning the management, protection, and control of wild free-roaming horses and burros on public lands administered by the Department of the Interior, through the Bureau of Land Management (BLM), and the Department of Agriculture, through the U.S. Forest Service.

DATES: Nominations must be post marked or submitted to the following address no later than March 15, 2024.

ADDRESSES: All mail and packages sent via the U.S. Postal Service, FedEx, or UPS should be addressed as follows:

U.S. Department of the Interior, Bureau of Land Management, Wild Horse and Burro Division, Attn: Dorothea Boothe, HQ-260; 9828 31st Avenue; Phoenix, AZ 85051.

Please consider emailing PDF documents to Ms. Boothe at dboothe@blm.gov.

FOR FURTHER INFORMATION CONTACT: Dorothea Boothe, Wild Horse and Burro Program Coordinator, telephone: 602-906-5543, email: dboothe@blm.gov. Individuals in the United States who are deaf, deafblind, hard of hearing, or have a speech disability may dial 711 (TTY, TDD, or TeleBraille) to access telecommunications relay services for contacting Ms. Boothe. Individuals outside the United States should use the relay services offered within their country to make international calls to the point-of-contact in the United States.

SUPPLEMENTARY INFORMATION: Members of the Board serve without compensation; however, while away from their homes or regular places of business, Board and subcommittee members engaged in Board or subcommittee business approved by the Designated Federal Officer (DFO) may be allowed travel expenses, including per diem in lieu of subsistence under 5 U.S.C. 5703, in the same manner as persons employed intermittently in government service. Nominations for a term of 3 years are needed to represent the following category of interest:

• Natural Resource Management

The Board will meet one to four times annually. The DFO may call additional meetings in connection with special needs for advice. Individuals may nominate themselves or others. Any individual or organization may nominate one or more persons to serve on the Board.

The BLM and U.S Forest Service first issued a call soliciting nominations for the positions of natural resource management, public interest (with special knowledge of equine behavior), and wild horse and burro research on October 2, 2023, for 45 days. Due to the limited number of nomination packets received, BLM determined that a second call for nominations is warranted for the natural resource position.

Nominations should include a resume providing an adequate description of the nominee's qualifications, including information that would enable the Departments of the Interior and Agriculture to make an informed decision regarding meeting the membership requirements of the Board and permit the Departments to contact a potential member. Nominations are to be sent to the address listed under ADDRESSES. To assist nominees in developing nominations packets, please visit the BLM website at https://www.blm.gov/programs/wild-horse-and-burro/get-involved/advisory-board and use the document template Applying to Serve on the Advisory Board.

As appropriate, certain Board members may be appointed as Special Government Employees (SGEs). Please be aware that applicants selected to serve as SGEs will be required, prior to appointment, to file a Confidential Financial Disclosure Report in order to avoid involvement in real or apparent conflicts of interest. You may find a copy of the Confidential Financial Disclosure Report at the following Web site: https://www.doi.gov/ethics/financial-disclosure.

Additionally, after appointment, members appointed as SGEs will be required to meet applicable financial disclosure and ethics training requirements. Please contact the at Department of the Interior's Ethics Office (202) 202-208-7960 or email: DOI_Ethics@sol.doi.gov with any questions about the ethics requirements for members appointed as SGEs.

Membership Selection: Individuals shall qualify to serve on the Board because of their education, training, or experience that enables them to give informed and objective advice regarding the interest they represent. They should demonstrate experience or knowledge of the area of their expertise and a commitment to collaborate in seeking solutions to resource management issues. The Board is structured to provide fair membership and balance, both geographic and interest specific, in terms of the functions to be performed and points of view to be represented. Members are selected with the objective of providing representative counsel and advice about public land and resource planning.

Pursuant to Section 7 of the Wild Free-Roaming Horses and Burros Act, members of the Board cannot be employed by the State or Federal Government.

(Authority: 43 CFR 1784.4-1)

Sharif D. Branham,
Assistant Director, Resources and Planning.

[FR Doc. 2024-02979 Filed 2-13-24; 8:45 am]

BILLING CODE 4331-27-P